DEPARTMENT OF ENERGY

Federal Energy Regulatory Commission

[Docket Nos. EL07-101-000; ER05-6-100;. EL04-135-003; EL02-111-120; EL02-111-120; EL03-212-116]

American Electric Power Service Corporation v. Midwest Independent Transmission System Operator, Inc., and PJM Interconnection, L.L.C.; Midwest Independent Transmission System Operator, Inc.; Midwest Independent Transmission System Operator, Inc., PJM Interconnection, L.L.C., et al.; Midwest Independent Transmission System Operator, Inc., PJM Interconnection, L.L.C., et al.; Ameren Services Company, et al.; Notice of Complaint

September 19, 2007.

Take notice that on September 17, 2007, American Electric Power Service Corporation on behalf of Appalachian Power Company, Columbus Southern Power Company, Indiana Michigan Power Company, Kentucky Power Company, Kingsport Power Company, Ohio Power Company and Wheeling Power Company (collectively, AEP), pursuant to Rule 206 of the Rules of Practice and Procedure and sections 206 and 306 of the Federal Power Act, filed a Complaint and Motion to Consolidate against Midwest Independent Transmission System Operator, Inc. (Midwest ISO) and PJM Interconnection, L.L.C. (PJM), alleging that the rate designs underlying their open access transmission tariffs are unjust, unreasonable, and unduly discriminatory and therefore must be revised. AEP requests that the Commission establish a refund-effective date of October 1, 2007, with respect to the necessary revisions.

AEP states that copies of the Complaint were served upon the contacts for Midwest ISO and PJM as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Comment Date: 5 p.m. Eastern Time on October 9, 2007.

Kimberly D. Bose,
Secretary.

[FR Doc. E7-18910 Filed 9-25-07; 8:45 am]

BILLING CODE 6717-01-P